DEPARTMENT OF THE INTERIOR

National Park Service

[NPS-WASO-VRP-OPH-NPS0028014; PPWOVPADH0, PPMPRHS1Y.Y00000 (200); OMB Control Number 1024-NEW]

Agency Information Collection Activities; National Park Service, Office of Public Health, Disease Reporting and Surveillance Forms

AGENCY: National Park Service, Interior.

ACTION: Notice of information collection; request for comment.

SUMMARY: In accordance with the Paperwork Reduction Act of 1995, we, the National Park Service (NPS) are proposing a new information collection.

DATES: Interested persons are invited to submit comments on or before February 27, 2020.

ADDRESSES: Send written comments on this information collection request (ICR) to the Office of Management and Budget's Desk Officer for the Department of the Interior by email at OIRA_Submission@omb.eop.gov; or by facsimile at 202-395-5806. Please provide a copy of your comments to Phadrea Ponds, Acting, Information Collection Clearance Officer, National Park Service, 1201 Oakridge Drive, Fort Collins, CO 80525; or by email at phadrea_ponds@nps.gov. Please reference OMB Control Number 1024-DRSS in the subject line of your comments.

FOR FURTHER INFORMATION CONTACT: To request additional information about this ICR contact Maria Said, U.S. Public Health Service Epidemiology Branch Chief, Office of Public Health, National Park Service 1849 C Street NW, Room 2543, Mailstop 2560, Washington, DC 20240; or by phone at (202) 513-7151 or by email at maria_said@nps.gov. Please reference OMB Control Number 1024-DRSS in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On December 15, 2016, we published a Federal Register notice soliciting comments on this collection of information for 60 days, ending on February 13, 2017 (81 FR 90867). We received one request by phone, from the Senior Attorney Advisor with the Office of Legal Counsel, U.S. Equal Employment Opportunity Commission on December 30, 2016. The request was to review the forms and supporting statement associated with this proposed information collection. We responded on January 12, 2017 that the package was still under development. Once the surveys were complete, we responded to request feedback on the final instrument; however, we did not receive a reply, despite several follow-up attempts.

We are again soliciting comments on the proposed ICR that is described below. We are especially interested in public comment addressing the following issues: (1) Is the collection necessary to the proper functions of the NPS, (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The NPS Organic Act of 1916 (54 U.S.C. 100101 et seq.) and the Public Health Service Act (42 U.S. Code Chapter 6A) give the NPS broad authority to collect information in an effort to protect and promote visitor health across the National Parks. Each year, the NPS Office of Public Health (OPH) responds to multiple service-wide incidents involving human disease transmission within the park system. Many of these incidents involve the spread of gastrointestinal illness and are thought to be attributable to norovirus, which is a common and highly contagious virus spread through contaminated food or water, from person-to-person, or by contaminated surfaces, etc. In the event of illness incidents, public health responders also consider and investigate the possibility of other etiological agents. The Disease Reporting and Surveillance System (DRSS) will provide information on the symptoms, duration, and location of illness, which allows public health workers to work rapidly and appropriately to address the incidents.

This is a request to approve two forms currently in use without a valid OMB control number. The Concession Employee Illness Reporting and Tour Vehicle Passenger Illness Reporting forms have been in use in Yellowstone National Park (YELL) since 2008. We are now requesting approval to use these forms at Yellowstone, Grand Teton (GRTE) and Glacier (GLAC) National Parks because visitors tend to visit these three parks in succession during a single trip.

Title of Collection: National Park Service Office of Public Health Disease Reporting and Surveillance Forms.

OMB Control Number: 1024-NEW.

Form Number: None.

Type of Review: New.

Respondents/Affected Public: Individuals/households and private sector.

Total Estimated Number of Annual Respondents: 390.

Total Estimated Number of Annual Responses: 390.

Estimated Completion Time per Response: Concession Employee Illness: 10 minutes; Tour Vehicle Passenger Illness: 15 minutes.

Total Estimated Number of Annual Burden Hours: 73.

Respondent's Obligation: Voluntary.

Frequency of Collection: On occasion.

Total Estimated Annual Nonhour Burden Cost: None.

Form | Number of completed forms | Estimated burden per respondent (minutes) | Total annual burden (hours)
Concession Employee Illness | 300 | 10 | 50
Tour Vehicle Passenger Illness | * 90 | 15 | 23
Total | 390 |  | 73
* 30 forms per park (YELL, GLAC, GRTE).

An agency may not conduct or sponsor and a person is not required to respond to a collection of information unless it displays a currently valid OMB control number.

The authority for this action is the Paperwork Reduction Act of 1995 (44 U.S.C. 3501 et seq.).

Phadrea Ponds,
Acting, NPS Information Collection Clearance Officer, National Park Service.

[FR Doc. 2020-01386 Filed 1-27-20; 8:45 am]

BILLING CODE 4312-52-P